NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before April 2, 2008. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: requestschedule@nara.gov.

FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Army, Agency-wide (N1-AU-03-18, 2 items, 2 temporary items). Master files and outputs associated with an electronic information system used to rate Army installations against established standards in three functional areas: infrastructure, environment, and services. Data includes names of installations, functional areas, categories, and quality and quantity ratings assigned to each functional area.

2. Department of Defense, Army and Air Force Exchange Service (N1-334-08-1, 4 items, 4 temporary items). Criminal investigation report files, including interviews, cover sheets, transmittal sheets, lists of property stolen or recovered, recommendations for actions, and similar records.

3. Department of Defense, Office of Inspector General (N1-509-07-2, 3 items, 2 temporary items). Records relating to criminal investigations polygraph examination files. The files include graphic recordings (charts) of a subject's physiological reactions to a line of questions and copies of the questions asked by the examiner. Proposed for permanent retention are polygraph files relating to criminal investigation case files involving significant crimes.

4. Department of Defense, Office of the Secretary of Defense (N1-330-08-5, 2 items, 2 temporary items). System master file and outputs associated with an electronic information system used to configure Department of Defense identification credentials to meet local business needs. The files contain personnel identification data to include name, gender, height, weight, eye color, place and date of birth, photograph, iris scans, and fingerprints.

5. Department of Homeland Security, Headquarters (N1-563-08-2, 6 items, 6 temporary items). Nondisclosure agreements signed by agency personnel and contractors with access to sensitive information. This schedule authorizes the agency to apply the proposed disposition instructions to any recordkeeping medium.

6. Department of Homeland Security, Office of Intelligence and Analysis (N1-563-07-16, 7 items, 6 temporary items). Records consisting of declassification request files; dissemination lists for intelligence products; reports containing raw, unevaluated intelligence; requests for information files; situation awareness reports; and workflow tracking systems. Proposed for permanent retention are recordkeeping copies of finished intelligence reports case files. This schedule authorizes the agency to apply the proposed disposition instructions to any recordkeeping medium.

7. Department of Housing and Urban Development, Government National Mortgage Association (N1-207-07-3, 17 items, 13 temporary items). Program operations files, records documenting the issuance, servicing, and oversight of guaranteed securities, publicity files, and other related records. Proposed for permanent retention are recordkeeping copies of the annual report and the files of the corporate secretary, president, and executive vice-president. This schedule authorizes the agency to apply the proposed disposition instructions for temporary records to any recordkeeping medium.

8. Department of the Interior, Bureau of Reclamation (N1-115-08-1, 2 items, 2 temporary items). Master files and supporting documentation for an electronic information system used to support the financial billing process and engineering project management.

9. Department of the Interior, Bureau of Reclamation (N1-115-08-2, 4 items, 4 temporary items). Master files, inputs, outputs, and system documentation for an electronic information system used to track agency compliance with the Americans with Disabilities Act and other programs related to facility accessibility improvements.

10. Department of Justice, Bureau of Prisons (N1-129-07-13, 1 item, 1 temporary item). Regional Safety Administrator's files related to workman's compensation. This schedule authorizes the agency to apply the proposed disposition instructions to any recordkeeping medium.

11. Department of Justice, Federal Bureau of Investigation (N1-65-08-5, 1 item, 1 temporary item). This schedule requests authority to destroy cases 29C-SL-185340, 29J-SL-187240, and 29K-SL-187135, which pertain exclusively to the investigation of the captioned individual. This request responds to a Federal Pre-Trial Diversion Program court order to delete the records of the captioned individual.

12. Department of the Navy, United States Marine Corps (N1-NU-07-14, 8 items, 8 temporary items). Master files and financial and quarterly reports of an electronic information system relating to food management, including requisitions, storing, preparing, serving, and accounting for subsistence supplies. This schedule authorizes the agency to apply the proposed disposition instructions to any recordkeeping medium except for master files.

13. Department of Transportation, Federal Transit Administration (N1-408-05-1, 181 items, 136 temporary items). Records relating to program administration; civil rights program; legal, rulemaking, interpretation, and enforcement; budget and accounting; personnel management and training; and award and management of grants. Proposed for permanent retention are recordkeeping copies of high-level mission-related correspondence, biographies, and speeches; organizational planning files; records of advisory, interagency, and international committees sponsored by the agency; press releases; briefing books and papers; digital photographs; publications; directives; conference proceedings; legal opinions and interpretations; substantive rulemaking dockets; enforcement action records and litigation files; reports and reviews; and the final reports, studies, or products of grants awarded for transit-related research, development, or training. Also scheduled for permanent retention are the master files of an electronic information system that contains information on every U.S. federally-funded urban mass transit system and documentation needed to maintain and access the files. This schedule authorizes the agency to apply the proposed disposition instructions to any recordkeeping medium.

14. Department of the Treasury, Financial Crimes Enforcement Network (N1-559-07-1, 14 items, 8 temporary items). Files of the Office of the Chief Counsel, which provides interpretations of regulations mandated by the Bank Secrecy Act and U.S. Codes. Included are correspondence, legal and legislative background and precedent-setting information, and ad hoc reports from the partner nations on the international initiatives to counter money laundering. Proposed for permanent retention are recordkeeping copies of memoranda of understanding and interagency agreements, central subject files, and regulatory files.

15. Department of the Treasury, Internal Revenue Service (N1-58-08-8, 4 items, 4 temporary items). Inputs, master files, outputs, and system documentation for an electronic information system used for securing consent from external job applicants to disclose tax-related information for employment suitability.

16. Department of the Treasury, Office of the Comptroller of the Currency (N1-101-08-1, 5 items, 5 temporary items). Master files, inputs, system documentation, and investigative case files of the Bank Fraud Information System. This schedule authorizes the agency to apply the proposed disposition instructions to any recordkeeping medium.

17. Environmental Protection Agency, Headquarters (N1-412-07-13, 2 items, 1 temporary item). This schedule authorizes the agency to apply the existing disposition instructions to records regardless of the recordkeeping medium. The records consist of Privacy Act reports files. Paper recordkeeping copies of these files were previously approved for disposal. Also included are annual reports, for which paper recordkeeping copies previously were approved as permanent.

18. Environmental Protection Agency, Inspector General (N1-412-07-70, 10 items, 8 temporary items). This schedule authorizes the agency to apply existing disposition instructions to records regardless of the recordkeeping medium. The records include hotline files, management assessment reviews and program evaluations, audit case files, suspension and debarment files, and investigative case files (exclusive of those that are unusually significant). Paper recordkeeping copies of these files were previously authorized for disposal. Also included are semiannual reports, for which paper recordkeeping copies previously were approved as permanent.

19. Environmental Protection Agency, Office of Pesticides Programs (N1-412-07-50, 14 items, 14 temporary items). This schedule authorizes the agency to apply existing disposition instructions to records regardless of recordkeeping medium. The records include re-registration case files and other documentation that supports or is ancillary to the registration of pesticides, including chemical reviews, laboratory test reports, novel microbial pesticide files, emergency exemption jackets, and other administrative files. Paper recordkeeping copies of these files were previously approved for disposal.

20. National Archives and Records Administration, Office of Administration (N1-64-08-6, 4 items, 4 temporary items). Master files of the Physical Access Control System, which maintains data for identity verification and access control activity in compliance with Homeland Security Presidential Directive 12. This schedule requests an exception to the applicable General Records Schedule for access control files.

Dated: February 25, 2008.
Michael J. Kurtz,
Assistant Archivist for Records Services—Washington, DC.

[FR Doc. E8-4006 Filed 2-29-08; 8:45 am]

BILLING CODE 7515-01-P